DEPARTMENT OF LABOR

Employment and Training Administration

[TA-W-40,244]

Northrop Grumman Formerly Known as Litton Watertown, CT; Notice of Termination of Investigation

Pursuant to section 221 of the Trade Act of 1974, an investigation was initiated on October 22, 2001 in response to a worker petition, which was filed by the workers at Northrup Grumman, formerly known as Litton, Watertown, Connecticut.

The investigation revealed that the petitioning group of workers were certified on October 31, 2001 (TA-W-40,185). Consequently, further investigation in this case would serve no purpose, and the investigation has been terminated.

Signed in Washington, DC this 8th day of November 2001.
Linda G. Poole,
Certifying Officer, Division of Trade Adjustment Assistance.

[FR Doc. 01-28979 Filed 11-19-01; 8:45 am]

BILLING CODE 4510-30-M